DEPARTMENT OF TRANSPORTATION

Federal Railroad Administration

[Docket Number FRA-2012-0053]

Notice of Application for Approval of Discontinuance or Modification of a Railroad Signal System

In accordance with Part 235 of Title 49 of the Code of Federal Regulations (CFR) and 49 U.S.C. 20502(a), this document provides the public notice that by a document dated June 5, 2012, the Alabama and Tennessee River Railway LLC has petitioned the Federal Railroad Administration (FRA) seeking approval for the discontinuance or modification of a signal system. FRA assigned the petition Docket Number FRA-2012-0053.

Applicant: Alabama and Tennessee River Railway LLC, Mr. Jason Scott, Vice President Signals & Communications, 3425 Forrest Avenue, Gadsden, Alabama 35904.

The Alabama and Tennessee River Railway LLC (ATN) seeks approval of the proposed discontinuance of signalized slide fences on the Birmingham Subdivision. The discontinuance would include the slide fence at Milepost (MP) 693.8, northbound signal at MP 697.1, and southbound signal at MP 691.9; slide fences at MP 701.6, 702.9, 703.2, 704.4, and 705.6, northbound signal at MP 706.8, and southbound signal at MP 699.9; slide fence at MP 718.0, northbound signal at MP 721.2, and southbound signal at MP 715.7; slide fences located at MP 724.4 and 724.5, northbound signal at MP 726.3, and southbound signal at MP 721.2.

The reasons given for the proposed changes is that there has been no slide activity affecting train operations since ATN began operations in 2005. The maximum authorized speed is 10 mph, with ATN crews operating at restricted speed, as outlined in General Code of Operating Rules 6.21, when a severe weather event is encountered during the course of duty. Maintenance-of-way employees also perform an inspection prior to trains operating in the area after a significant storm event. There are no passenger train operations in the area and freight trains average one train per day.

A copy of the petition, as well as any written communications concerning the petition, is available for review online at www.regulations.gov and in person at the U.S. Department of Transportation's Docket Operations Facility, 1200 New Jersey Ave. SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by August 24, 2012 will be considered by FRA before final action is taken. Comments received after that date will be considered as far as practicable.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78).

Issued in Washington, DC, on July 3, 2012.
Ron Hynes,
Acting Deputy Associate Administrator for Regulatory and Legislative Operations.

[FR Doc. 2012-16796 Filed 7-9-12; 8:45 am]

BILLING CODE 4910-06-P